DEPARTMENT OF LABOR

Employment and Training Administration

TA-W-82,705, the Boeing Company Boeing Commercial Aircraft, (BCA) Including On-Site Leased Workers From Chipton Ross, Inc., CTS Technical Services, Inc., Moseley Technical Services, Inc., PDS Technical Services, Triad Systems International, Volt Services and Yoh Services Auburn, Washington; TA-W-82,705A, the Boeing Company Boeing Commercial Aircraft, (BCA) Including On-Site Leased Workers From Adecco, USA, Inc., Cascade Engineering, CDI Corporation, Chipton Ross, Inc., Comforce Corporation, Computer Staffing Services, CTS Technical Services, Inc., D3 Technologies, Dassault System Services, Fujitsu America, Inc., Kaman Engineering Services, Inc., Kaman Global Aerosystems, Inc., Midcom,Foker Elmo Inc., Moseley Technical Services, Inc., PDS Technical Services, Tass, Inc., Triad Systems International, Volt Services and Yoh Services Everett, Washington; TA-W-82,705B, The Boeing Company Boeing Commercial Aircraft, (BCA) Including On-Site Leased Workers From Comforce Corporation, PDS Technical Services, Triad Systems International and Volt Services Puyallup, Washington; TA-W-82,705C, the Boeing Company Boeing Commercial Aircraft, (BCA) Including On-Site Leased Workers From Adecco USA, Inc., Chipton Ross, Inc., Comforce Corporation, CTS Technical Services, Inc., Midcom, Moseley Technical Services, Inc., PDS Technical Services, Triad Systems International, Volt Services and Yoh Services Renton, Washington; TA-W-82,705D, the Boeing Company Boeing Commercial Aircraft, (BCA) Including On-Site Leased Workers From Adecco USA, Inc., Chipton Ross, Inc., and PDS Technical Services Seattle, Washington; TA-W-82,705E, the Boeing Company Boeing Commercial Aircraft, (BCA) Including On-site Leased Workers from Chipton Ross, Inc., Comforce Corporation, CTS Technical Services, Inc., Moseley Technical Services, Inc., PDS Technical Services, Triad Systems International, Tass Inc., and Volt Services Tukwila, Washington; TA-W-82,705F, the Boeing Company Boeing Commercial Aircraft, (BCA) Including On-Site Leased Workers From Adecco

USA, Inc., Chipton Ross, Inc., Comforce Corporation, CTS Technical Services, Inc., D3 Technologies, Kaman Engineering Services, Inc., Midcom, PDS Technical Services, Triad Systems International, Volt Services and Yoh Services Mukilteo, Washington; Amended Certification Regarding Eligibility to Apply for Worker Adjustment Assistance

In accordance with Section 223 of the Trade Act of 1974, as amended (“Act”), 19 U.S.C. 2273, the Department of Labor issued a Certification of Eligibility to Apply for Worker Adjustment Assistance on June 12, 2013, applicable to workers of The Boeing Company, BCA—Hourly Manufacturing & Quality, Auburn, Washington (TA-W-82,705), Everett, Washington (TA-W-82,705A), Puyallup, Washington (TA-W-82,705B), North 8th and Logan Avenue North, Renton, Washington (TA-W-82,705C), Seattle, Washington (TA-W-82,705D), and Tukwila, Washington (TA-W-82,705E). The workers are engaged in activities related to the production of commercial passenger aircraft. The notice was published in the Federal Register on July 2, 2013 (78 FR 39775).

At the request of a company official and union, the Department reviewed the certification for workers of the subject firm.

New information shows that worker separation have occurred during the relevant time period at the Mukilteo, Washington location of The Boeing Company, Boeing Commercial Aircraft (BCA) attributable to an acquisition of articles from a foreign country. Information also shows that workers leased from the above mentioned firms were employed on-site at the above mentioned locations of the subject firm. These workers were sufficiently under the control of The Boeing Company, Boeing Commercial Aircraft (BCA) to be considered leased workers.

Accordingly, the Department is amending the certification to include workers in the Mukilteo, Washington facility of The Boeing Company, Boeing Commercial Aircraft (BCA) and to include on-site leased workers. The amended notice applicable to TA-W-82,705 and TA-W-82,705A-F is hereby issued as follows:

All workers of The Boeing Company, Boeing Commercial Aircraft, (BCA), including on-site leased workers from Chipton Ross, Inc., CTS Technical Services, Inc., Moseley Technical Services, Inc., PDS Technical Services, Triad Systems International, Volt Services and YOH Services, Auburn, Washington (TA-W-82,705), The Boeing Company, Boeing Commercial Aircraft, (BCA), including on-site leased workers from Adecco, USA, Inc., Cascade Engineering, CDI Corporation, Chipton Ross, Inc., Comforce Corporation, Computer Staffing Services, CTS Technical Services, Inc., D3 Technologies, Dassault System Services, Fujitsu America, Inc., Kaman Engineering Services, Inc., Kaman Global Aerosystems, Inc., Midcom,Foker Elmo Inc., Moseley Technical Services, Inc., PDS Technical Services, Tass, Inc., Triad Systems International, Volt Services and YOH Services, Everett, Washington, (TA-W-82,705A), The Boeing Company, Boeing Commercial Aircraft, (BCA), including on-site leased workers from, Comforce Corporation, PDS Technical Services, Triad Systems International and Volt Services, Puyallup, Washington, (TA-W-82,705B), The Boeing Company, Boeing Commercial Aircraft, (BCA), including on-site leased workers from Adecco USA, Inc., Chipton Ross, Inc., Comforce Corporation, CTS Technical Services, Inc., Midcom, Moseley Technical Services, Inc., PDS Technical Services, Triad Systems International, Volt Services and YOH Services, Renton, Washington, (TA-W-82,705C), The Boeing Company, Boeing Commercial Aircraft, (BCA), including on-site leased workers from Adecco USA, Inc., Chipton Ross, Inc., and PDS Technical Services, Seattle, Washington, (TA-W-82,705D), The Boeing Company, Boeing Commercial Aircraft, (BCA), including on-site leased workers from Chipton Ross, Inc., Comforce Corporation, CTS Technical Services, Inc., Moseley Technical Services, Inc., PDS Technical Services, Triad Systems International, Tass Inc., and Volt Services Tukwila, Washington, (TA-W-82,705E), and The Boeing Company, Boeing Commercial Aircraft, (BCA), including on-site leased workers from Adecco USA, Inc., Chipton Ross, Inc., Comforce Corporation, CTS Technical Services, Inc., D3 Technologies, Kaman Engineering Services, Inc., Midcom, PDS Technical Services, Triad Systems International, Volt Services and YOH Services, Mukilteo, Washington, (TA-W-82,705F), who became totally or partially separated from employment on or after April 26, 2012, through June 12, 2015, and all workers in the group threatened with total or partial separation from employment on the date of certification through two years from the date of certification, are eligible to apply for adjustment assistance under Chapter 2 of Title II of the Trade Act of 1974, as amended.

Signed in Washington, DC, this 9th day of September 2013.
Michael W. Jaffe,
Certifying Officer, Office of Trade Adjustment Assistance.

[FR Doc. 2013-24190 Filed 10-2-13; 8:45 am]

BILLING CODE 4510-FN-P